DEPARTMENT OF HOUSING AND URBAN DEVELOPMENT

[Docket No. FR-5752-N-82]

30-Day Notice of Proposed Information Collection: Planning Phase Evaluation of the LGBTQ Youth Homelessness Prevention Initiative

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: October 29, 2014.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW., Washington, DC 20410; email at Colette Pollard @hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A.

The Federal Register notice that solicited public comment on the information collection for a period of 60 days was published on July 25, 2014.

A. Overview of Information Collection

Title of Information Collection: Planning Phase Evaluation of the LGBTQ Youth Homelessness Prevention Initiative.

OMB Approval Number: 2506-New.

Type of Request: New collection.

Form Number: None.

Description of the need for the information and proposed use: The LGBTQ Youth Homelessness Prevention Initiative began in the summer of 2013 as part of a federal interagency initiative. The initiative's goal is to prevent homelessness among lesbian, gay, bisexual, transgender, and questioning (LGBTQ) youth, and to intervene early when homelessness occurs for these youth. Federal partners from the U.S. Departments of Education, Health, and Juvenile Justice, as well as the U.S. Interagency Council on Homelessness, support this HUD initiative. The initiative supports the federal goal to end youth homelessness by 2020 and contributes to the development of a model for preventing LGBT youth homelessness that other communities can replicate. There are two communities participating in this initiative and both receive technical assistance (TA) to support their initiative planning (and later in the process, their initiative implementation).

At this time, both communities are in the midst of their strategic planning and we do not currently have information on the strategies they plan to implement starting in fall 2014. Hence, this request for OMB clearance only covers the first evaluation phase. This planning phase evaluation will document how the two participating communities have approached their local plan development. Furthermore, it will examine the resources required to carry out the planning process, what worked well, what challenges emerged and how they were addressed, and lessons learned. To produce this information, HUD will collect quantitative and qualitative data from primary sources using four methods: interviews, surveys, focus groups, and document review. Participants will consist of the local initiative leads as well as individuals involved in local initiative steering committees and subcommittees. Documents to be reviewed will not require new data collection—they are available through the ongoing TA to the two communities.

This first evaluation phase will focus on nine aspects of the planning process: (1) Role of local leads, (2) timeline; (3) needs assessment, (4) logic model; (5) local plan development; (6) role of steering committee; (7) role of subcommittees; (8) community involvement; and (9) technical assistance supports. These areas were chosen to better understand development of the local plans, including learned lessons, overall strengths/assets, and weaknesses/challenges of the planning phase. A separate OMB clearance request will be submitted as part of the second evaluation phase, which will examine each community's implementation of their local plans.

Respondents (i.e. affected public): Organizations participating in the two local initiatives, including local lead organizations and participants on the local steering committees and subcommittees.

Information collection | Number of respondents | Frequency of response | Responses per annum | Burden hour per response | Annual burden hours | Hourly cost per response | Annual cost
Planning Phase Interview: Local leads, steering committee members, and subcommittee members (n=96) | 13 | 1 | 1 | 1 | 13 | $25.46 | $331
Planning Phase Focus Group: Local leads, steering committee members, and subcommittee members (n=96) | 24 | 1 | 1 | 1 | 24 | 25.46 | 611
Planning Phase Survey: Local leads, steering committee members, and subcommittee members (n=96) | 110 | 1 | 1 | .25 | 27.5 | 25.46 | 700
Total | 110 | 1 | 1 | .25-1 | 64.5 | 25.46 | 1,642
*$25.46 is a GS-11 equivalent hourly cost. Hourly cost per response will vary at participating nonprofit and local government offices.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: September 22, 2014.
Colette Pollard,
Department Reports Management Officer, Office of the Chief Information Officer.

[FR Doc. 2014-23120 Filed 9-26-14; 8:45 am]

BILLING CODE 4210-67-P